DEPARTMENT OF ENERGY

Federal Energy Regulatory Commission

Combined Notice of Filings #1

Take notice that the Commission received the following electric corporate filings:

Docket Numbers: EC19-104-000.

Applicants: Hartree Partners, LP, Griffith Energy LLC, Cogen Technologies Linden Venture, L.P., East Coast Power Linden Holding, L.L.C., Footprint Power Salem Harbor Development LP, Brookfield Asset Management Inc.

Description: Application for Authorization Under Section 203 of the Federal Power Act, et al. of Hartree Partners, LP, et. al.

Filed Date: 6/19/19.

Accession Number: 20190619-5196.

Comments Due: 5 p.m. ET 7/10/19.

Take notice that the Commission received the following exempt wholesale generator filings:

Docket Numbers: EG19-138-000.

Applicants: RE Rambler LLC.

Description: Notice of Self-Certification of Exempt Wholesale Generator Status of RE Rambler LLC.

Filed Date: 6/20/19.

Accession Number: 20190620-5044.

Comments Due: 5 p.m. ET 7/11/19.

Take notice that the Commission received the following electric rate filings:

Docket Numbers: ER10-3077-006; ER10-3071-006; ER10-3074-006; ER10-3075-006; ER10-3076-006; ER14-1342-003; ER14-608-003; ER15-876-003; ER16-1644-003; ER17-1214-002; ER19-537-002.

Applicants: CalPeak Power—Border LLC, CalPeak Power—Enterprise LLC, CalPeak Power—Panoche LLC, CalPeak Power—Vaca Dixon LLC, CalPeak Power LLC, Midway Peaking, LLC, Malaga Power, LLC, MRP San Joaquin Energy, LLC, High Desert Power Project, LLC, MRP Generation Holdings, LLC, Coso Geothermal Power Holdings, LLC.

Description: Notice of Change in Status of CalPeak Power—Border LLC, et. al.

Filed Date: 6/19/19.

Accession Number: 20190619-5132.

Comments Due: 5 p.m. ET 7/10/19.

Docket Numbers: ER15-1682-007.

Applicants: TransCanyon DCR, LLC.

Description: Compliance filing: Formula Rate Template Second Compliance Filing for ADIT to be effective 6/27/2019.

Filed Date: 6/20/19.

Accession Number: 20190620-5072.

Comments Due: 5 p.m. ET 7/11/19.

Docket Numbers: ER19-1503-001.

Applicants: Midcontinent Independent System Operator, Inc., Entergy Services, LLC.

Description: Tariff Amendment: 2019-06-20_Deficiency Response re Entergy OpCos Att O Revisions Regarding ADIT to be effective 6/1/2019.

Filed Date: 6/20/19.

Accession Number: 20190620-5071.

Comments Due: 5 p.m. ET 7/11/19.

Docket Numbers: ER19-1576-001.

Applicants: Duke Energy Progress, LLC, Duke Energy Carolinas, LLC.

Description: Compliance filing: DEP Attachment H.1 (DEP Formula Rate) Compliance Filing to be effective 5/15/2019.

Filed Date: 6/20/19.

Accession Number: 20190620-5021.

Comments Due: 5 p.m. ET 7/11/19.

Docket Numbers: ER19-2208-000.

Applicants: Pacific Gas and Electric Company.

Description: § 205(d) Rate Filing: First Amendment to Llagas Energy Storage SGIA (SA 387) to be effective 8/18/2019.

Filed Date: 6/19/19.

Accession Number: 20190619-5135.

Comments Due: 5 p.m. ET 7/10/19.

Docket Numbers: ER19-2209-000.

Applicants: Midcontinent Independent System Operator, Inc., MidAmerican Energy Company.

Description: § 205(d) Rate Filing: 2019-06-20_SA 3322 ATXI-MEC-ITC T-T (MVP 7) to be effective 6/20/2019.

Filed Date: 6/20/19.

Accession Number: 20190620-5018.

Comments Due: 5 p.m. ET 7/11/19.

Docket Numbers: ER19-2210-000.

Applicants: Midcontinent Independent System Operator, Inc.

Description: § 205(d) Rate Filing: 2019-06-20_SA 3323 Prairie State Solar-Ameren Illinois GIA (J808) to be effective 6/6/2019.

Filed Date: 6/20/19.

Accession Number: 20190620-5033.

Comments Due: 5 p.m. ET 7/11/19.

Docket Numbers: ER19-2211-000.

Applicants: Southwestern Public Service Company.

Description: § 205(d) Rate Filing: SPS-Multi Pty-Kiowa IA-SPS 711-0.0.0 to be effective 6/21/2019.

Filed Date: 6/20/19.

Accession Number: 20190620-5055.

Comments Due: 5 p.m. ET 7/11/19.

Docket Numbers: ER19-2212-000.

Applicants: CFE International LLC.

Description: § 205(d) Rate Filing: normal filing 2019 to be effective 6/21/2019.

Filed Date: 6/20/19.

Accession Number: 20190620-5068.

Comments Due: 5 p.m. ET 7/11/19.

Docket Numbers: ER19-2213-000.

Applicants: Florida Power & Light Company.

Description: § 205(d) Rate Filing: FPL and Seminole Rate Schedule No. 327 Revisions to Exhibit A to be effective 6/21/2019.

Filed Date: 6/20/19.

Accession Number: 20190620-5075.

Comments Due: 5 p.m. ET 7/11/19.

Docket Numbers: ER19-2214-000.

Applicants: Milford Wind Corridor Phase I, LLC.

Description: Compliance filing: Request for Cat. 1 Seller Status in the SW Region & Revised MBR Tariff to be effective 6/21/2019.

Filed Date: 6/20/19.

Accession Number: 20190620-5093.

Comments Due: 5 p.m. ET 7/11/19.

Docket Numbers: ER19-2215-000.

Applicants: Milford Wind Corridor Phase II, LLC.

Description: § 205(d) Rate Filing: Request for Cat. 1 Seller Status in the SW Region & Revised MBR Tariff to be effective 6/21/2019.

Filed Date: 6/20/19.

Accession Number: 20190620-5097.

Comments Due: 5 p.m. ET 7/11/19.

Docket Numbers: ER19-2216-000.

Applicants: Agua Caliente Solar, LLC.

Description: § 205(d) Rate Filing: Revisions to Market-Based Rate Tariff and Requests for Waivers to be effective 6/21/2019.

Filed Date: 6/20/19.

Accession Number: 20190620-5107.

Comments Due: 5 p.m. ET 7/11/19.

Take notice that the Commission received the following electric securities filings:

Docket Numbers: ES19-30-000.

Applicants: GridLiance West LLC.

Description: Amendment to May 17, 2019 Application [Revised Exhibit D] under Section 204 of the Federal Power Act for Authorization to Issue Securities of GridLiance West LLC.

Filed Date: 6/20/19.

Accession Number: 20190620-5036.

Comments Due: 5 p.m. ET 7/1/19.

Docket Numbers: ES19-35-000.

Applicants: Michigan Electric Transmission Company, LLC.

Description: Application under Section 204 of the Federal Power Act for Authorization to Issue Securities of Michigan Electric Transmission Company, LLC.

Filed Date: 6/19/19.

Accession Number: 20190619-5173.

Comments Due: 5 p.m. ET 7/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2019.
Nathaniel J. Davis, Sr.,
Deputy Secretary.

[FR Doc. 2019-13585 Filed 6-25-19; 8:45 am]

BILLING CODE 6717-01-P